DEPARTMENT OF ENERGY

Federal Energy Regulatory Commission

[Docket Nos. CP04-370-000 and RP96-383-058]

Dominion Transmission, Inc.; Notice of Abandonment of Service and Negotiated Rate Agreement

July 14, 2004.

Take notice that on June 30, 2004, Dominion Transmission, Inc. (DTI) tendered for filing as part of its FERC Gas Tariff, Third Revised Volume No. 1, the following Pro Forma tariff sheets:

Third Revised Sheet No. 6

Fifth Revised Sheet No. 1404

DTI also submitted, as part of its FERC Gas Tariff, First Revised Volume No. 2, the following Pro Forma tariff sheets:

Second Revised Sheet No. 5

First Revised Sheet No. 293

Sheet Nos. 294-308

DTI requests an effective date of August 1, 2004 for its proposed tariff sheets. DTI states that the purpose of this filing is to convert its individually certificated service under Rate Schedule X-70 to open access service under part 284.

Any person desiring to be heard or to protest said application should file a motion to intervene or a protest with the Federal Energy Regulatory Commission, 888 First Street, NE., Washington, DC 20426, in accordance with sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Intervention and Protest Date: July 29, 2004.

Magalie R. Salas,
Secretary.

[FR Doc. E4-1615 Filed 7-20-04; 8:45 am]

BILLING CODE 6717-01-P